DEPARTMENT OF HEALTH AND HUMAN SERVICES

National Institutes of Health

National Institute of Mental Health; Amended Notice of Meeting

Notice is hereby given of a change for the meeting of the Services Subcommittee of the Interagency Autism Coordinating Committee (IACC), March 26, 2009, 1 p.m. to 5 p.m. Eastern Time at the Hubert H. Humphrey Building, Conference Room 335G2, 200 Independence Avenue, SW., Washington, DC, 20201which was published in the Federal Register on March 9, 2009, 74FR10060.

The Webinar Link for Registration and Access Information that was listed in the notice has been changed. The correct Webinar link is https://www1.gotomeeting.com/register/892570174. To access the conference call the Dial-in number is 888-455-2920 and the Access code is 3857872. The time remains the same.

Dated: March 16, 2009.
Jennifer Spaeth,
Director, Office of Federal Advisory Committee Policy.

[FR Doc. E9-6202 Filed 3-20-09; 8:45 am]

BILLING CODE 4140-01-P